DEPARTMENT OF LABOR

Employment and Training Administration

[TA-W-82,506; TA-W-82,506S]

Experian, Experian Healthcare (Medical Present Value (MPV)—Credit Services and Decision Analytics) Including On-Site Leased Workers From Tapfin, Manpower and Experis Austin, Texas; Experian, Oakland Cheetahmail Office, Including On-Site Leased Workers From Tapfin, Manpower and Experis Oakland, California; Amended Certification Regarding Eligibility To Apply for Worker Adjustment Assistance

In accordance with Section 223 of the Trade Act of 1974, as amended (“Act”), 19 U.S.C. 2273, the Department of Labor issued a Certification of Eligibility to Apply for Worker Adjustment Assistance on April 4, 2013, applicable to workers of Experian, Experian Healthcare, (medical Present Value (MPV)—Credit Services and Decision Analytics), Austin, Texas (TA-W-82,506), Experian, Information Technology & Operations, (Data Center and Technical Services, Telecommunications, Network Services, Compliance and Distributed Applications), Allen, Texas (TA-W-82,506A), Experian, Information Technology & Operations, (Data Center and Technical Services, Telecommunications, Network Services, Compliance and Distributed Applications, Allen, Texas (TA-W-82,506B), Experian, Business Information Services, Corporate Marketing, Credit Services, Data Management, Decision Analytics, Information Technology Services, Marketing Services (Broker Sales and Licensing) and Strategic Alliance, Atlanta, Georgia (TA-W-82,506C), Experian, QAS (Experian Marketing Services), Boston, Massachusetts (TA-W-82,506D), Experian, Decision Analytics, (formerly Baker Hill), Carmel, Indiana (TA-W-82,506E), Experian, Experian U.S. Headquarters: Corporate Departments (finance, HRMD, Contracts, Corporate Marketing, Global Corporate Systems, Legal & Regulatory, Risk Management, Strategic Business Development and Investor Relations), Credit Services, Experian Automotive, Costa Mesa, California (TA-W-82,506F), Experian, Experian Consumer Direct (Experian Interactive, Consumerinfo.Com), Costa Mesa, California (TA-W-82,506G), Experian, Marketing Services, El Segundo, California (TA-W-82,506H), Experian, Marketswitch (Decision Analytics), Herndon, Virginia (TA-W-82,506I), Experian, Experian Healthcare (Searchamerica—Credit Services and Decision Analytics), Maple Grove, Minnesota (TA-W-82,506J), Experian, Marketing Services, New York, New York (TA-W-82,506K), Experian, Global Product & Technology Services, Experian Marketing Services (Experian Simmons), New York, New York (TA-W-82,506L), Experian, Experian Marketing Services, New York, New York (TA-W-82,506M), Experian, Credit Services, Marketing Services, Parsippany, New Jersey (TA-W-82,506N), Experian, Experian Healthcare (Medical Present Value (MPV)—Credit Services and Decision Analytics), Plymouth, Massachusetts (TA-W-82,506O), Experian, Experian Healthcare (Medical Present Value (MPV)—Credit Services and Decision Analytics), San Antonio, Texas (TA-W-82,506P), Experian, Fraud Solutions, Decision Analytics (Decision Solutions & Decision Sciences), San Diego, California (TA-W-82,506Q), and Experian, Credit Services, Experian Automotive and Marketing Services, Schaumburg, Illinois (TA-W-82,506R). The worker groups are engaged in the supply of credit reporting services. The worker groups include on-site leased workers from Tapfin, Manpower and Experis who worked at all locations. The notice was published in the Federal Register on April 30, 2013 (78 FR 25306).

At the request of a company official, the Department reviewed the certification for workers of the subject firm. Information shows that worker separations occurred during the relevant time period at the Oakland CheetahMail Office, Oakland, California location of Experian. The Oakland CheetahMail Office, Oakland, California location provides CheetahMail marketing services for Experian.

Accordingly, the Department is amending the certification to include workers of the Oakland CheetahMail Office, Oakland, California location of Experian.

The intent of the Department's certification is to include all workers of the subject firm who were adversely affected by a shift in services of credit reporting services to Costa Rica, Chile and England.

The amended notice applicable to TA-W-82,506 is hereby issued as follows:

“All workers from Experian, Experian Healthcare, (medical Present Value (MPV)—Credit Services and Decision Analytics), including on-site leased workers Tapfin, Manpower and Experis, Austin, Texas (TA-W-82,506), Experian, Information Technology & Operations, (Data Center and Technical Services, Telecommunications, Network Services, Compliance and Distributed Applications), including on-site leased workers from Tapfin, Manpower and Experis, Allen, Texas (TA-W-82,506A), Experian, Information Technology & Operations, (Data Center and Technical Services, Telecommunications, Network Services, Compliance and Distributed Applications, including on-site leased workers from Tapfin, Manpower and Experis, Allen, Texas (TA-W-82,506B), Experian, Business Information Services, Corporate Marketing, Credit Services, Data Management, Decision Analytics, Information Technology Services, Marketing Services (Broker Sales and Licensing) and Strategic Alliance, including on-site leased workers from Tapfin, Manpower and Experis, Atlanta, Georgia (TA-W-82,506C), Experian, QAS (Experian Marketing Services), including on-site leased workers from Tapfin, Manpower and Experis, Boston, Massachusetts (TA-W-82,506D), Experian, Decision Analytics, (formerly Baker Hill), including on-site leased workers from Tapfin, Manpower and Experis, Carmel, Indiana (TA-W-82,506E), Experian, Experian US Headquarters: Corporate Departments (finance, HRMD, Contracts, Corporate Marketing, Global Corporate Systems, Legal & Regulatory, Risk Management, Strategic Business Development and Investor Relations), Credit Services, Experian Automotive, including on-site leased workers from Tapfin, Manpower and Experis, Costa Mesa, California (TA-W-82,506F), Experian, Experian Consumer Direct (Experian Interactive, Consumerinfo.Com), including on-site leased workers from Tapfin, Manpower and Experis, Costa Mesa, California (TA-W-82,506G), Experian, Marketing Services, including on-site leased workers from Tapfin, Manpower and Experis, El Segundo, California (TA-W-82,506H), Experian, Marketswitch (Decision Analytics), including on-site leased workers from Tapfin, Manpower and Experis, Herndon, Virginia (TA-W-82,506I), Experian, Experian Healthcare (Searchamerica—Credit Services and Decision Analytics), including on-site leased workers from Tapfin, Manpower and Experis, Maple Grove, Minnesota (TA-W-82,506J), Experian, Marketing Services, including on-site leased workers from Tapfin, Manpower and Experis, New York, New York (TA-W-82,506K), Experian, Global Product & Technology Services, Experian Marketing Services (Experian Simmons), including on-site leased workers from Tapfin, Manpower and Experis, New York, New York (TA-W-82,506L), Experian, Experian Marketing Services, including on-site leased workers from Tapfin, Manpower and Experis, New York, New York (TA-W-82,506M), Experian, Credit Services, Marketing Services, including on-site leased workers from Tapfin, Manpower and Experis, Parsippany, New Jersey (TA-W-82,506N), Experian, Experian Healthcare (Medical Present Value (MPV)—Credit Services and Decision Analytics), including on-site leased workers from Tapfin, Manpower and Experis, Plymouth, Massachusetts (TA-W-82,506O), Experian, Experian Healthcare (Medical Present Value (MPV)—Credit Services and Decision Analytics), including on-site leased workers from Tapfin, Manpower and Experis, San Antonio, Texas (TA-W-82,506P), Experian, Fraud Solutions, Decision Analytics (Decision Solutions & Decision Sciences), including on-site leased workers from Tapfin, Manpower and Experis, San Diego, California (TA-W-82,506Q), and Experian, Credit Services, Experian Automotive and Marketing Services, including on-site leased workers from Tapfin, Manpower and Experis, Schaumburg, Illinois (TA-W-82,506R), Experian, Oakland CheetahMail Office, including on-site leased workers from Tapfin, Manpower and Experis, Oakland, California (TA-W-82,506S), who became totally or partially separated from employment on or after February 26, 2012 through April 4, 2015, and all workers in the group threatened with total or partial separation from employment on date of certification through two years from the date of certification, are eligible to apply for adjustment assistance under Chapter 2 of Title II of the Trade Act of 1974, as amended.”

Signed at Washington, DC this 2nd day of May 2013.
Michael W. Jaffe,
Certifying Officer, Office of Trade Adjustment Assistance .

[FR Doc. 2013-11482 Filed 5-14-13; 8:45 am]

BILLING CODE 4510-FN-P